OFFICE OF THE UNITED STATES TRADE REPRESENTATIVE

[Docket No. WTO/D-202]

WTO Consultations Regarding U.S. Action Under Section 203 of the Trade Act of 1974 Concerning Line Pipe

AGENCY: Office of the United States Trade Representative.

ACTION: Notice; request for comments.

SUMMARY: The Office of the United States Trade Representative (USTR) is providing notice that on June 13, 2000, Korea requested consultations with the United States under the Marrakesh Agreement Establishing the World Trade Organization (WTO), regarding the U.S. action under section 203 of the Trade Act of 1974 (“Trade Act”) (19 U.S.C. 2253) concerning line pipe. Presidential Proclamation 7274, issued on February 18, imposed safeguards on imports of line pipe, effective March 1, 2000 (65 FR 9193, February 23, 2000). Korea alleges that the U.S. action on line pipe is inconsistent with various provisions of the WTO Agreement on Safeguards and the General Agreement on Tariffs and Trade 1994 (“GATT 1994”). Pursuant to Article 4.3 of the WTO Dispute Settlement Understanding (“DSU”), such consultations are to take place within a period of 30 days from the date of the request, or within a period otherwise mutually agreed between the United States and Korea. USTR invites written comments from the public concerning the issues raised in this dispute.

DATES: Although the USTR will accept any comments received during the course of the dispute settlement proceedings, comments should be submitted on or before July 21 to be assured of timely consideration by USTR prior to consulting with Korea.

ADDRESSES: Submit comments to Sandy McKinzy, Monitoring and Enforcement Unit, Office of the General Counsel, Room 122, Office of the United States Trade Representative, 600 17th Street, NW., Washington, DC, 20508, Attn: Line Pipe Dispute. Telephone (202) 395-3582.

FOR FURTHER INFORMATION CONTACT: Rachel Shub, Associate General Counsel, Office of the United States Trade Representative, 600 17th Street, NW., Washington, DC, (202) 395-7305.

SUPPLEMENTARY INFORMATION: Section 127(b) of the Uruguay Round Agreements Act (URAA) (19 U.S.C. 3537(b)(1)) requires that notice and opportunity for comment be provided after the United States receives a request for the establishment of a WTO dispute settlement panel. Consistent with this obligation, but in an effort to provide additional opportunity for comment, USTR is providing notice that consultations have been requested pursuant to the WTO Dispute Settlement Understanding. If such consultations should fail to resolve the matter and a dispute settlement panel is established pursuant to the DSU, such panel, which would hold its meetings in Geneva, Switzerland, would be expected to issue a report on its findings and recommendations within six to nine months after it is established.

Major Issues Raised by Korea

On December 22, 1999, the United States International Trade Commission (USITC) transmitted to the President an affirmative determination in its investigation under section 202 of the Trade Act (19 U.S.C. 2252), with respect to imports of certain circular welded carbon quality line pipe (line pipe) provided for in subheadings 7306.10.10 and 7306.10.50 of the Harmonized Schedule of the United States. The USITC determined that line pipe is being imported in such increased quantities as to be a substantial cause of serious injury or the threat of serious injury to the domestic industry producing a like or directly competitive article.

On February 18, 2000, pursuant to section 203 of the Trade Act (19 U.S.C. 2253), Presidential proclamation 7274 imposed increases in duties on imports of line pipe in excess of 9000 short tons (8,164,663 kg) from each country, effective March 1, 2000 through March 1, 2003. Proclamation 7274 exempts products of Canada and Mexico from these duty increases. Korea alleges that “the U.S. procedures and determinations that led to the imposition of the safeguard measure as well as the measure itself” are inconsistent with U.S. obligations under Articles 2, 3, 4, 5, 11 and 12 of the WTO Agreement on Safeguards and with Articles I, XIII and XIX of the GATT 1994.

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room: Room 101, Office of the United States Trade Representative, 600 17th Street, NW., Washington, DC 20508. The public file will include a listing of any comments received by USTR from the public with respect to the proceeding; and, if applicable, the U.S. submissions to the panel in the proceeding, the submissions, or non-confidential summaries of submissions, to the panel received from other participants in the dispute, as well as the report of the dispute settlement panel, and the report of the Appellate Body. An appointment to review the public file (Docket WTO/D-202, Line Pipe Dispute) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 00-16962 Filed 7-3-00; 8:45 am]

BILLING CODE 3190-01-M